DEPARTMENT OF EDUCATION

Office of Special Education and Rehabilitative Services; Grant Applications Under Part D, Subpart 2 of the Individuals With Disabilities Education Act Amendments of 1997

AGENCY: Department of Education.

ACTION: Notice inviting applications for new awards for fiscal year (FY) 2000.

SUMMARY: This notice provides closing dates and other information regarding the transmittal of applications for FY 2000 competitions under three programs authorized by the Individuals with Disabilities Education Act (IDEA Amendments of 1997), as amended. The three programs are: (1) Special Education—Research and Innovation to Improve Services and Results for Children with Disabilities (one priority); (2) Special Education—Personnel Preparation to Improve Services and Results for Children with Disabilities (one priority); and (3) Special Education—Technical Assistance and Dissemination to Improve Services and Results for Children with Disabilities (three priorities).

This notice supports the National Education Goals by helping to improve results for children with disabilities.

Waiver of Rulemaking

It is generally the practice of the Secretary to offer interested parties the opportunity to comment on proposed priorities. However, section 661(e)(2) of IDEA makes the Administrative Procedure Act (5 U.S.C. 553) inapplicable to the priorities in this notice.

General Requirements

(a) Projects funded under this notice must make positive efforts to employ and advance in employment qualified individuals with disabilities in project activities (see Section 606 of IDEA).

(b) Applicants and grant recipients funded under this notice must involve individuals with disabilities or parents of individuals with disabilities in planning, implementing, and evaluating the projects (see Section 661(f)(1)(A) of IDEA).

(c) Projects funded under these priorities must budget for a two-day Project Directors' meeting in Washington, D.C. during each year of the project.

(d) In a single application, an applicant must address only one absolute priority in this notice.

(e) Part III of each application submitted under a priority in this notice, the application narrative, is where an applicant addresses the selection criteria that are used by reviewers in evaluating the application. You must limit Part III to the equivalent of no more than the number of pages listed in the “Page Limits” section under the applicable priority in this notice using the following standards:

• A “page” is 8.5″; x 11″ (on one side only) with one-inch margins (top, bottom, and sides).

• Double space (no more than three lines per vertical inch) all text in the application narrative, including titles, headings, footnotes, quotations, and captions, as well as all text in charts, tables, figures, and graphs.

• If using a proportional computer font, use no smaller than a 12-point font, and an average character density no greater than 18 characters per inch. If using a nonproportional font or a typewriter, do not use more than 12 characters per inch.

The page limit does not apply to Part I—the cover sheet; Part II—the budget section, including the narrative budget justification; Part IV, the assurances and certifications; or the one-page abstract, the resumes, the bibliography or references, or the letters of support. However, you must include all of the application narrative in Part III.

If, to meet the page limit, you use a larger page or you use a print size, spacing, or margins smaller than the standards in this notice, we will reject your application.

Information collection resulting from this notice has been submitted to OMB for review under the Paperwork Reduction Act and has been approved under control number 1820-0028, expiration date July 31, 2000.

Research and Innovation To Improve Services and Results for Children With Disabilities

Purpose of Program

To produce, and advance the use of, knowledge to: (1) Improve services provided under IDEA, including the practices of professionals and others involved in providing those services to children with disabilities; and (2) improve educational and early intervention results for infants, toddlers, and children with disabilities.

Eligible Applicants

State and local educational agencies; institutions of higher education; other public agencies; private nonprofit organizations; outlying areas; freely associated States; and Indian tribes or tribal organizations.

Applicable Regulations

(a) The Education Department General Administrative Regulations (EDGAR) in 34 CFR parts 74, 75, 77, 79, 80, 81, 82, 85, 86, 97, 98, and 99; (b) The selection criteria for the priorities under this program are drawn from the EDGAR general selection criteria menu. The specific selection criteria for this priority are included in the funding application packet for this competition.

Note: The regulations in 34 CFR part 86 apply to institutions of higher education only.

Priority

Under section 672 of the Act and 34 CFR 75.105(c)(3), we consider only applications that meet the following priority:

Absolute Priority—Directed Research Projects (84.324D)

This priority provides support for projects that advance and improve the knowledge base and improve the practice of professionals, parents, and others providing early intervention, special education, and related services. This includes professionals who work with children with disabilities in regular education environments and natural environments. Under this priority, projects must support innovation, development, exchange of information, and use of advancements in knowledge and practice. If the project maintains a web site, it must include relevant information and documents in an accessible form. Projects must (1) use rigorous quantitative or qualitative research and evaluation methods and (2) communicate appropriately with audiences.

Focus 1—Inclusion of Students With Disabilities in Large-Scale Assessment Programs

The IDEA Amendments of 1997 include a number of provisions related to State and district-wide assessment programs. These provisions call for (1) the participation of children with disabilities in general State and district-wide assessment programs, with appropriate accommodations, where necessary (section 612(a)(17)(A)); (2) the provision of alternate assessments for children with disabilities who cannot participate in State or districtwide assessment programs (section 612(a)(17)(A)(i) and (ii)); (3) public reporting on the participation and performance of students with disabilities in general assessment programs and alternate assessments (section 612(a)(17)(B)); and (4) statements in the IEP regarding individual modifications needed in the administration of State and districtwide assessments or how a child will participate in alternate assessments (section 614(d)(1)(A)(v)).

Focus 1 supports projects that pursue systematic programs of applied research to (a) determine how State and local educational agencies can best meet these requirements, and (b) study the effects of efforts made by these agencies to meet these requirements. The Assistant Secretary is particularly interested in projects that examine the impact of State assessment policies on students with disabilities, specifically those projects that require students with disabilities to demonstrate reading proficiency at a particular level in order to graduate.

Projects may focus on one or more specific requirements or effects.

The Assistant Secretary intends to make approximately 3 awards in Focus Area 1 with at least one award focusing on low-incidence disabilities, i.e., a visual or hearing impairment or simultaneous visual and hearing impairments, a significant cognitive impairment, or any impairment for which a small number of personnel with highly specialized skills and knowledge are needed in order for children with that impairment to receive early intervention services or a free appropriate public education.

Focus 2—Instructional Interventions and Results for Children With Disabilities

The successful implementation of the IDEA Amendments of 1997 requires a strong emphasis on supports for children with disabilities to help them access the general education curricula. Research is needed to describe, test, and validate instructional practices that have the potential for generating positive results for children with disabilities as they strive to meet State and local standards and performance goals set for all students. The research must focus on children in preschool, elementary, middle, or high school.

Projects supported under Focus 2 must investigate one or more issues related to providing instruction in the general education curriculum for children with disabilities. These issues may include, but are not limited to:

The relationship of instructional interventions to results in the following areas: (1) Core subjects e.g., language arts, mathematics, science, social studies, and (2) second language acquisition;

(b) Contextual variables that influence access to the general education curriculum for students with disabilities. Contextual variables include, for example, classroom design, relative role of regular educators and special educators, groupings, or management strategies; curricular design, delivery, or materials; and family and staff interaction;

(c) Instructional and curricular accommodations to ensure that students with disabilities have access to the general education curriculum;

(d) The relationship of inclusive preschool practices and child-family transition practices to child development, readiness skills, and preparation for participation in the primary grades; and

(e) The development of interventions that promote better results through standards based reform and accountability.

The Assistant Secretary intends to fund approximately 12 awards in Focus 2 with at least 2 projects for each of the following grade levels: preschool, elementary, middle, and high school.

Focus Area 3—Early and Prescriptive Assessment of Children With Learning or Emotional Disabilities

Children with physical, sensory, speech, and significant cognitive disabilities are identified relatively early, and children with learning and emotional disabilities, relatively late. Between first grade and fourth grade, the number of children identified with learning disabilities and emotional disturbance triples. Research has shown that early intervention is particularly effective for children with learning or emotional disabilities, to improve educational results and reduce behavioral difficulties.

Attempts to explain the late identification patterns for children with learning or emotional disabilities have targeted weaknesses in assessment practices, and the reluctance of schools to engage in potentially stigmatizing erroneous identification. This late identification problem has resulted in many young children not receiving appropriate services at the age when they would obtain the greatest benefit from targeted interventions.

Research is needed to examine and document effective and prescriptive assessment procedures that will contribute to the accurate identification of young children (3 through 9 years of age) with learning or emotional disabilities, and will lead to appropriate services to maximize their social and educational development. The procedures and services to be studied must incorporate multiple assessment approaches including observational techniques, cultural and linguistic factors, and prereferral strategies to enhance the accuracy of assessment and prevent misidentification of children, where appropriate. The research must document the effectiveness of methods to accurately identify and prescribe interventions for young children with learning or emotional disabilities, including students whose eligibility for special education is based upon having specific learning disabilities, emotional disturbance, development delay, or other health impairments. Because learning and behavioral problems often coexist in young children, research awards under this focus area must address early assessment procedures that examine both emotional or behavioral and learning domains.

The Assistant Secretary intends to award approximately 3 projects in Focus 3.

Focus 4—Gender and Special Education

The purpose of this priority is to explore the influences of gender on special education referral, placement, and service provision for students with disabilities.

Males and females comprise equal proportions of the school-aged population; however, males account for approximately two-thirds of all students served in special education. In many cases, it is not clear if females are underidentified for special education, if males are overidentified, or if real differences exist in the prevalence of disability between males and females. The research to date has primarily addressed commonalities of students rather than differences based on gender.

Some additional facts regarding gender and disabilities include:

(a) Females with disabilities have more significant disabilities than their male peers at the time of referral;

(b) Females with disabilities have lower IQ scores than their male counterparts at the time of referral; and

(c) Post school outcomes for females with disabilities are significantly worse than their male peers with disabilities.

Little is known, however, about the different characteristics, treatment and experiences of males and females with disabilities. These differences are likely to be caused by a combination of factors.

Under this priority, a research project must pursue a systematic program of research that focuses on one or more issues related to gender and special education. The issues may include, but are not limited to:

(a) The differences that may exist in the prevalence of disabilities based on gender, and if those differences exist, why;

(b) The reasons for different outcomes and opportunities, (e.g., employment, parenting, vocational education programs) for students with disabilities based on gender; and

(c) The factors that contribute to disproportionate representation of males and females in special education including (i) students' environmental, social, and learning experiences, and cultural and linguistic characteristics; (ii) student or teacher behaviors and interactions; (iii) teacher expectations and attitudes; and (iv) any other relevant areas.

The Assistant Secretary intends to fund 3 awards in Focus 4.

Focus 5—Research To Improve Literacy Results for Children Who Are Unresponsive to Effective Classroom or Schoolwide Programs in Grades K-3

Recent reading research has focused on developing and validating strategies and interventions to ensure that children acquire literacy in regular education classroom settings by using effective classroom reading programs. These programs may include explicit and intensive instruction within or outside the classroom in small groups and, in the most difficult cases, with individualized one-on-one tutoring. The hope has been that all children would succeed in these circumstances; however, there are a small number of children who do not benefit from these interventions and who are at the highest risk for academic and social failure.

Effective learning and teaching strategies must also be found for these children. These strategies need to be based on the learning characteristics and needs of a child as well as by reasonable expectations for the child. Some children may benefit from more intensive interventions of longer duration, or they may benefit from a number of new innovations, e.g., a universal design of curriculum that has embedded modifications, adaptations and accommodations to serve diverse student populations. Supports and supplementary aids and services may also help these children.

Projects supported under Focus 5 must—

(a) Identify the criteria used to decide that a child is unresponsive to interventions that are effective for most students;

(b) Identify and describe characteristics related to (i) the environmental, social, and cultural factors each child may have experienced, and (ii) the learning characteristics related to the literacy of each child who is unresponsive to reading programs to which a majority of children respond. Learning characteristics may include, but are not limited to, specific deficits in phonological awareness, inattentiveness and distractibility, motivation, language development, developmental delay, and IQ;

(c) Design processes for making decisions about how to target instruction that will be effective given the identified learning characteristics of the child;

(d) Identify alternative methods of providing access to content for those who have not acquired sufficient reading proficiency;

(e) Document the progress of individual children toward meeting intervention goals, the fidelity of implementation of interventions, the qualifications of persons who make decisions and who implement interventions, the length and intensity of interventions, and the settings where the interventions take place; and

(f) Evaluate the expectations that were made for each child.

The Assistant Secretary intends to fund 3 awards in Focus 5.

Focus 6—Research to Improve Reading Comprehension Results for Children With Disabilities

In recent years, research has advanced our understanding of how skilled readers comprehend and how instructional strategies support children with learning disabilities to comprehend text. Comprehension is not merely a text-based process where meaning resides in the text and the role of the reader is to discover the meaning. To develop successful comprehension skills, many children with learning disabilities need an explicit instructional program that: (a) Teaches them how to access prior knowledge through strategies such as semantic mapping, think aloud sheets, etc.; (b) motivates and supports persistence on task, including expressions of a student's own thoughts when reading and writing, questioning the expert or inquiring, or using technology or grouping practices; and (c) teaches them cognitive and metacognitive strategies for reading with understanding, including how to monitor one's own progress through self-regulation, summarizing, generating questions, mnemonics, or imagery.

Under Focus 6, a research project must pursue a systematic program of applied research that focuses on one or more issues related to improving reading comprehension results of children with learning disabilities related to reading. These issues include, but are not limited to:

(a) The types of effective comprehension instruction for children with learning disabilities in grades K-2, 3-5, and 6-8 inclusive; the components of particularly effective programs for children with learning disabilities, e.g., the basal materials, supplemental or adapted materials, instructional strategies used by teachers, and how families may support the instructional program;

(b) The types of effective questioning strategies used by teachers, peers, and parents to encourage and develop comprehension skills; and

(c) The kinds of individualized instruction, grouping practices, instructional strategies, and curricula that improve comprehension and problem solving.

The Assistant Secretary intends to make approximately 3 awards in Focus 6.

Competitive Preferences

Within this absolute priority, we will give the following competitive preference under section 606 of IDEA and 34 CFR 75.105(c)(2)(i), to applications that are otherwise eligible for funding under this priority:

Up to ten (10) points based on the effectiveness of the applicant's strategies for employing and advancing in employment qualified individuals with disabilities in project activities as required under paragraph (a) of the General Requirements section of this notice. In determining the effectiveness of those strategies, the Assistant Secretary can consider the applicant's past success in pursuit of this goal.

For purposes of this competitive preference, applicants can be awarded up to a total of 10 points in addition to those awarded under the published selection criteria for this priority. That is, an applicant meeting this competitive preference could earn a maximum total of 110 points.

Project Period for All Focus Areas

Up to 36 months.

Maximum Award for All Focus Areas

We will reject any application that proposes a budget exceeding $180,000 for a single budget period of 12 months. This maximum award applies to any application for any Focus area. The Assistant Secretary for Special Education and Rehabilitative Services may change the maximum amount through a notice published in the Federal Register.

Page Limits for All Focus Areas

The maximum page limit for this priority is 50 double-spaced pages.

Note: Applications must meet the required page limit standards that are described in the General Requirements section of this notice.

Special Education—Personnel Preparation To Improve Services and Results for Children With Disabilities [CFDA 84.325]

Purpose of Program

The purposes of this program are to (1) help address State-identified needs for qualified personnel in special education, related services, early intervention, and regular education, to work with children with disabilities; and (2) to ensure that those personnel have the skills and knowledge, derived from practices that have been determined through research and experience to be successful, that are needed to serve those children.

Eligible Applicants

State and local educational agencies; institutions of higher education; other public agencies; private nonprofit organizations; outlying areas; freely associated States; and Indian tribes or tribal organizations.

Applicable Regulations

(a) The Education Department General Administrative Regulations (EDGAR) in 34 CFR parts 74, 75, 77, 79, 80, 81, 82, 85, 86, 97, 98, and 99; (b) The selection criteria for this priority are drawn from the EDGAR general selection criteria menu. The specific selection criteria for this priority are included in the funding application packet for this competition.

Note: The regulations in 34 CFR part 86 apply to institutions of higher education only.

Priority

Under section 673(d) of the Act and 34 CFR 75.105(c)(3), we consider only those applications that meet the following priority:

Absolute Priority—Projects of National Significance (84.325N)

The Assistant Secretary establishes an absolute priority to support projects that address issues of national significance and have broad applicability. Projects supported under this priority must develop, evaluate, and disseminate innovative models. These models must be designed to serve as blueprints for systemic improvement in the recruitment, preparation, induction, retention, or ongoing professional development of personnel who have responsibility for ensuring that children with disabilities achieve to high standards and become independent, productive citizens. These personnel include early intervention personnel, regular and special education teachers, administrators, related service personnel, and paraprofessionals. If the project maintains a web site, it must include relevant information and documents in an accessible form.

Projects must (1) Use current research-validated practices and materials and (2) communicate appropriately with target audiences.

Applicants should note that:

(a) The purpose of this priority is model development. Thus, it is not expected that student stipends will be supported. However, release time for staff for development activities is appropriate; and

(b) It is expected that projects funded under this priority will incorporate a systemic approach to dissemination to relevant training and technical assistance entities.

Invitational Priorities

Within this absolute priority, the Assistant Secretary is particularly interested in applications that meet one or more of the following priorities. However, under 34 CFR 75.105(c)(1) an application that meets one or more of these invitational priorities does not receive competitive or absolute preference over other applications:

(a) Projects that are designed to reduce personnel shortages by developing innovative models for promoting the transferability, across State and local jurisdictions, of licensure and certification of personnel serving infants, toddlers, and children with disabilities;

(b) Projects that are designed to increase the quantity, quality, and diversity of personnel who serve infants, toddlers, or children with disabilities by developing innovative, proactive models for recruiting personnel into training programs or professional positions;

(c) Projects that are designed to increase the retention of new personnel by developing innovative, multi-year, developmental induction models;

(d) Projects that are designed to improve the learning of children with disabilities in the general education curricula by developing innovative models for collaborative training of regular and special education personnel, including paraprofessionals;

(e) Projects that are designed to enhance professional development curricula for personnel serving infants, toddlers, or children with disabilities by developing case or problem-based training modules that can be integrated into training curricula. It is expected that these projects will incorporate state of the art technology in the design and dissemination of the modules;

(f) Projects that are designed to enhance teaching and learning through the development of innovative training models that incorporate state of the art assistive, instructional and communicative technology knowledge and use; and

(g) Projects that are designed to enhance professional development curricula for teachers and administrators serving infants, toddlers, or children with disabilities by developing modules for individualized education program (IEP) decisionmaking, particularly with regard to a child's participation in assessments.

Competitive Preference

Within this absolute priority, we will give the following competitive preference under section 606 of IDEA and 34 CFR 75.105(c)(2)(i), to applications that are otherwise eligible for funding under this priority:

Up to ten (10) points based on the effectiveness of the applicant's strategies for employing and advancing in employment qualified individuals with disabilities in project activities as required under paragraph (a) of the General Requirements section of this notice. In determining the effectiveness of those strategies, the Assistant Secretary can consider the applicant's past success in pursuit of this goal.

For purposes of this competitive preference, applicants can be awarded up to a total of 10 points in addition to those awarded under the published selection criteria for this priority. That is, an applicant meeting this competitive preference could earn a maximum total of 110 points.

Project Period

Up to 36 months.

Maximum Award

We will reject any application that proposes a budget exceeding $200,000 for any single budget period of 12 months. This maximum award applies to any application. The Assistant Secretary for Special Education and Rehabilitative Services may change the maximum amount through a notice published in the Federal Register.

Page Limits

The maximum page limit for this priority is 40 double-spaced pages.

Note: Applications must meet the required page limit standards that are described in the General Requirements section of this notice.

Special Education—Technical Assistance and Dissemination To Improve Services and Results for Children With Disabilities

Purpose of Program

The purpose of this program is to provide technical assistance and information through programs that support States and local entities in building capacity, to improve early intervention, educational, and transitional services and results for children with disabilities and their families, and address systemic-change goals and priorities.

Applicable Regulations

(a) The Education Department General Administrative Regulations (EDGAR) in 34 CFR parts 74, 75, 77, 79, 80, 81, 82, 85, 86, 97, 98, and 99; (b) The selection criteria for the priorities under this program are drawn from the EDGAR general selection criteria menu. The specific selection criteria for each of these priorities are included in the funding application packet for the applicable competition.

Note: The regulations in 34 CFR part 86 apply to institutions of higher education only.

Eligible Applicants

State and local educational agencies, institutions of higher education, other public agencies, private nonprofit organizations, outlying areas, freely associated States, and Indian tribes or tribal organizations.

Additional Requirements for all Technical Assistance and Dissemination Priorities

Projects funded under this program must (1) use current research-validated practices and materials and (2) communicate appropriately with target audiences.

Priority

Under section 685 of IDEA and 34 CFR 75.105(c)(3) we consider only applications that meet one of the following priorities:

Absolute Priority 1—Linking Policy and Practice Audiences to the IDEA Amendments of 1997 (84.326A)

Background

The continued, effective implementation of the IDEA Amendments of 1997 is dependent, in part, on the active participation of educational and professional associations, parent organizations, advocacy groups, and other entities concerned with the early intervention and education for children with disabilities. In 1998, the Office of Special Education Programs funded four partnerships among these associations and other entities to address the information and training needs of four specific audiences: families and advocates; policy makers; local administrators; and services providers.

The four partnership projects include the: (1) Families and Advocates Partnership for Education (FAPE), which addresses the needs of families and advocates; (2) Policy Maker Partnership (PMP), which addresses the needs of education policy makers; (3) IDEA Local Implementation by Local Administrators Partnership (ILIAD), which addresses the needs of local education administrators; and (4) Association of Service Providers Implementing IDEA Reforms in Education Partnership (ASPIIRE), which addresses the needs of the services providers, including teachers and related service providers.

Three of the four partnership projects, FAPE, ILIAD, and ASPIIRE were funded for three years with an option for two additional years of funding. Since the PMP was funded for only two years, the following priority is needed in order to continue that partnership for up to 3 additional years.

Priority

The Assistant Secretary establishes an absolute priority to support one partnership among associations of education policy makers and other entities so they can contribute to the successful implementation of the IDEA Amendments of 1997, including those related to Part C of IDEA. This partnership will be established in order to inform and provide support to the partnership's members and constituents in understanding the law, the implications of the law for their respective roles in improving results for children with disabilities, and how research-based best practices can be used to implement the law.

The partnerships must—

(a) Collaborate to meet the needs of policy makers (e.g., chief State school officers, State boards of education, local school boards, State directors of special education, State directors of mental health programs, State directors of vocational rehabilitation programs, State directors of programs for children with special health care needs, deans of education and special education department chairs, school superintendents, governors, State legislators);

(b) Include—

(1) from 5 to 10 associations and entities representing regular and special education interests; and

(2) one project director responsible for the leadership and management of the partnership;

(c) Conduct needs assessments of member associations and other entities prior to submitting an application in order to identify the needs of their respective memberships and constituents regarding the implementation of the IDEA Amendments of 1997;

(d) Describe in the application the strategies (e.g., questionnaires, telephone surveys, focus groups, the use of documents in electronic formats) used to obtain needs assessment data from their respective memberships and constituents;

(e) Provide an analysis of the needs assessment data with the application and submit the analysis to the Coordinating Committee described in paragraph (h);

(f) Develop a joint agreement among the participating associations and other entities to be included in the application. This agreement must describe—

(1) The audience whose needs the partnership will address and the roles and responsibilities of each member organization or other entity in the partnership;

(2) The activities that the partnership is proposing to conduct. Activities must include dissemination of information and outreach. The partnership must also employ information specialists to answer questions and provide materials to audience members and constituents upon request; and

(3) How resources are to be allocated to ensure the success of the partnership activities;

(g) Implement an external review process in which experts review partnership materials for technical accuracy and clarity. Experts must be knowledgeable in the IDEA Amendments of 1997, supporting legislative history, and regulations implementing the Amendments, and also must be familiar with related OSEP policy guidance. The external expert review process shall be finalized in consultation with, and approved by, OSEP. Information products produced under this award may not be disseminated to outside audiences without prior approval by OSEP;

(h) Describe how the project will be involved in the Partnership Projects' Coordinating Committee, described below, which is comprised of representatives of each of the four partnerships described in the Background section of this priority. The Coordinating Committee includes, at a minimum, the project director of each partnership and appropriate OSEP staff, and may also include other partnership staff for purposes of carrying out committee responsibilities, including assisting partnerships in implementing their projects. The proposal under this paragraph must address each of the ongoing committee functions listed below and include a method for allocating partnership resources to support committee activities. The Coordinating Committee—

(1) Provides technical assistance across the four partnerships and develops cross-partnership materials to ensure clarity, accuracy, consistency of message and efficient use of resources across the partnerships;

(2) Provides the partnerships timely information, including information on pertinent research;

(3) Develops and implements a joint marketing, training, dissemination, and outreach plan based on the results of the partnerships' needs assessments, for reaching each of the four target audiences in an efficient and timely manner; and

(4) Designs and conducts a media campaign that includes the successful implementation of researched-based practices and that increases public awareness of how children with disabilities are being served appropriately and how appropriate services affect results for children; and

(i) Maintain a world wide web site with relevant information and documents in an accessible form.

Competitive Preference:

Within this absolute priority, we will give the following competitive preference under section 606 of IDEA and 34 CFR 75.105(c)(2)(i), to applications that are otherwise eligible for funding under this priority:

Up to ten (10) points based on the effectiveness of the applicant's strategies for employing and advancing in employment qualified individuals with disabilities in project activities as required under paragraph (a) of the General Requirements section of this notice. In determining the effectiveness of those strategies, the Assistant Secretary can consider the applicant's past success in pursuit of this goal.

For purposes of this competitive preference, applicants can be awarded up to a total of 10 points in addition to those awarded under the published selection criteria for this priority. That is, an applicant meeting this competitive preference could earn a maximum total of 110 points.

Project Period

Under this priority, the Assistant Secretary will make an award for a cooperative agreement with a project period of up to 36 months subject to the requirements of 34 CFR 75.253(a) for continuation awards.

Maximum Award

We reject any application that proposes a budget exceeding $1,500,000 for any single budget period of 12 months. The Assistant Secretary for Special Education and Rehabilitative Services may change the maximum amount through a notice published in the Federal Register.

Page Limits

The maximum page limit for this priority is 60 double-spaced pages.

Note: Applications must meet the required page limit standards that are described in the General Requirements section of this notice.

Absolute Priority 2—State and Federal Policy Forum for Program Improvement. (84.326F)

Background

Access to information is critical for decisionmakers and policy officials to ensure that appropriate and effective education and early intervention services are provided to all infants, toddlers, and children with disabilities. State and Federal decisionmakers responsible for the implementation of the IDEA Amendments of 1997 must have access to valid statistics, research findings, and policy options, as well as current information on trends in providing special education and related services.

The Office of Special Education Programs (OSEP) within the U.S. Department of Education has responsibility for the Federal administration of IDEA. State educational agencies (SEAs), or other designated State agencies under Part C of IDEA, oversee the administration of IDEA at the State and local level. The project supported under the following priority will provide access to and analysis of administrative and policy information generated by the States and other jurisdictions, and will facilitate coordination between OSEP and State and local IDEA administrators.

Priority

The Assistant Secretary establishes a priority to facilitate communication between the U.S. Department of Education and State and local administrators of IDEA, and to synthesize national program information that will improve the management, administration, delivery, and effectiveness of programs and services provided under IDEA. The cooperative agreement funded under this priority will provide the Department with a mechanism and resources for analyzing policies and emerging issues that are of significant national concern.

The project must—

(a) Through expert knowledge, research reviews, and other types of needs assessment, identify national and State program improvement information that is needed to obtain better results for infants, toddlers, and children with disabilities receiving educational and early intervention settings;

(b) Organize, synthesize, interpret, and integrate information needed for program improvement using a variety of methods and formats;

(c) Analyze emerging policy or program issues regarding the administration of IDEA at the Federal, State, and local levels;

(d) Facilitate the flow of information at the Federal, State, and local levels related to program improvement for infants, toddlers, and children with disabilities, via existing information resources and communication networks;

(e) Maintain a world wide web site with relevant information and documents in an accessible form;

(f) Organize, coordinate, and maintain a data base of laws, policies, and regulations that govern special education within the States and other jurisdictions; communicate, on a regular basis, with State educational agencies to identify emerging policy issues; and convene meetings between special education administrators, outside experts, and others to review, plan, and provide leadership in recommending multi-level actions that respond to the emerging issues;

(g) Maintain communication and collaboration with technical assistance providers funded under the Linking Policy and Practice Audiences to the IDEA Amendments of 1997 priority and the Technical Assistance Project for the Parent Training and Information Centers priority to help inform OSEP of emerging policy or program issues related to IDEA that the technical assistance providers are addressing or have identified; and

(h) Communicate regularly with OSEP to provide information that may assist OSEP in improving its efficiency in administering IDEA.

In addition to the annual two-day Project Director's meeting in Washington, DC listed in the General Requirements section of this notice, the project must budget for another annual two-day trip to Washington, DC to meet and collaborate with the OSEP project officer and other funded projects for purposes of cross-project collaboration and information exchange.

Project Period

Under this priority, the Assistant Secretary will make one award for a cooperative agreement with a project period of up to 60 months subject to the requirements of 34 CFR 75.253(a) for continuation awards. During the second year of the project, the Assistant Secretary will determine whether to continue the Center for the fourth and fifth years of the project period and will consider in addition to the requirements of 34 CFR 75.253(a):

(a) The recommendation of a review team consisting of three experts selected by the Assistant Secretary. The services of the review team, including a two-day site visit to the project, are to be performed during the last half of the project's second year and may be included in that year's evaluation required under 34 CFR 75.590. Costs associated with the services to be performed by the review team must also be included in the project's budget for year two. These costs are estimated to be approximately $6,000;

(b) The timeliness and effectiveness with which all requirements of the negotiated cooperative agreement have been or are being met by the project; and

(c) The degree to which the project's design and technical strategies are disseminating significant new knowledge.

Competitive Preferences

Within this absolute priority, we will give the following competitive preference under section 606 of IDEA and 34 CFR 75.105(c)(2)(i), to applications that are otherwise eligible for funding under this priority:

Up to ten (10) points based on the effectiveness of the applicant's strategies for employing and advancing in employment qualified individuals with disabilities in project activities as required under paragraph (a) of the General Requirements section of this notice. In determining the effectiveness of those strategies, the Assistant Secretary can consider the applicant's past success in pursuit of this goal.

For purposes of this competitive preference, applicants can be awarded up to a total of 10 points in addition to those awarded under the published selection criteria for this priority. That is, an applicant meeting this competitive preference could earn a maximum total of 110 points.

Maximum Award

We reject any application that proposes a budget exceeding $400,000 for any single budget period of 12 months. This maximum amount applies to any application. The Assistant Secretary for Special Education and Rehabilitative Services may change the maximum amount through a notice published in the Federal Register.

Page Limits

The maximum page limit for this priority is 60 double-spaced pages.

Note: Applications must meet the required page limit standards that are described in the General Requirements section of this notice.

Absolute Priority 3—Center on Achieving Results in Education for Students With Disabilities (84.326G)

Background

The IDEA Amendments of 1997 introduced a number of provisions related to large-scale assessment and accountability. These provisions called for the participation of students with disabilities in State and district-wide assessments, with appropriate accommodations or alternate assessments provided when necessary. States must publicly report on the performance and participation of students with disabilities on regular and alternate assessments, and must establish goals and performance indicators that address, among other things, the performance of students with disabilities on assessments. Individualized education programs (IEPs) must reflect individual decisions about modifications in administration of State and district-wide assessments, and participation in alternate assessments.

These requirements reflect the importance of ensuring that students with disabilities have access to the general curriculum and that they benefit from State and local efforts toward accountability and standards-based reform. In addition, State and district-wide assessments may provide a valuable source of national and State information about educational results for students with disabilities, provided those students are sufficiently included.

Recent evidence suggests that States are making progress in implementing these assessment and accountability requirements. However, a number of technical and policy challenges must be overcome before the requirements can yield all of their potential benefits for students with disabilities.

Priority

The Assistant Secretary establishes an absolute priority for a center to provide national leadership in improving results for students with disabilities by improving their participation in State and local assessment and accountability systems. The Center must accomplish this mission through a combination of research, technical assistance, dissemination, collaboration, and other leadership functions.

The Center's research activities must include, but are not limited to:

(a) Conducting an annual survey of States to determine their current status in implementing the assessment and accountability provisions of IDEA;

(b) Evaluating State and local policies and practices to determine the best approaches for promoting meaningful participation of students with disabilities in assessment and accountability activities;

(c) Conducting an annual review of State reports and assessment data to track the participation and performance levels of students with disabilities in large-scale assessments;

(d) Synthesizing research on relevant topics such as assessment accommodations, alternate assessments, data analysis and reporting, and other related areas; and

(e) Conducting, collaborating in, or commissioning focused research studies on topics related to assessment and accountability.

The Center's technical assistance and dissemination activities must include, but are not limited to:

(a) Preparing and disseminating reports and documents on research findings and related topics;

(b) Maintaining a world wide web site with relevant information and documents in an accessible form;

(c) Conducting national and regional meetings, in collaboration with other centers such as the Regional Resource Centers, to assist States and local education agencies in continuing the implementation of the assessment and accountability provisions of IDEA;

(d) Working directly with States and other stakeholders to improve the participation of students with disabilities in State and local assessment and accountability systems; and

(e) Developing and applying strategies for dissemination of information to specific audiences, including teachers, families, administrators, policymakers and researchers. Such strategies must involve collaboration with other technical assistance providers, organizations, and researchers as described below.

The Center's collaboration and other leadership activities must include, but are not limited to:

(a) Maintaining communication and collaboration with other technical assistance providers (including the Regional Resource Centers, Federal Resource Center, Centers funded under the “Linking Policy and Practice Audiences with the 1997 Amendments of IDEA” priority, Educational Labs, Parent Training and Information Centers, Technical Assistance Project for the Parent Training and Information Centers priority, and others) and organizations (including the National Association of State Directors of Special Education, the Council for Exceptional Children, the Council of Chief State School Officers and others, as well as projects funded by the Office of Bilingual Education and Minority Languages Affairs and the Office of Elementary and Secondary Education) concerning assessment and accountability related activities;

(b) Maintaining a network of researchers (including the Research Institute to Enhance the Role of Special Education and Children With Disabilities in Education Policy Reform; the Urban Special Education Collaborative; and the Outreach Services to Minority Entities to Expand Research Capacity project) studying assessment, accountability, and related topics to facilitate communication and collaboration among researchers and to promote the use of research findings and products; and

(c) Convening conferences, at the request of OSEP, on topics related to assessment and accountability.

The Center must also:

(a) Establish, maintain, and meet at least annually with an advisory committee consisting of representatives of State and local educational agencies, individuals with disabilities, parents, educators, professional organizations and advocacy groups, researchers, and other appropriate groups to review and advise on the Center's activities and plans. The committee must include membership that represents urban schools and underrepresented populations;

(b) Fund as project assistants at least three doctoral students per year who have concentrations in relevant topics such as special education, assessment, educational policy, and administration;

(c) In addition to the two-day Project Directors Meeting listed in the General Requirements section of this notice, budget for two additional two-day trips annually to Washington, DC, to attend an additional Project Director meeting and to attend an OSEP Leadership Conference; and

(d) Budget for at least a monthly trip to attend appropriate meetings convened by the Department of Education (such as the regional Improving America's Schools conferences), the Council of Chief State School Officers (such as meetings of the State Collaborative on Assessment and Student Standards, and the Large Scale Assessment Conference), and other Centers and organizations.

Project Period

Under this priority, the Assistant Secretary will make one award for a cooperative agreement for a project period of up to 60 months subject to the requirements of 34 CFR 75.253(a) for continuation awards. During the second year of the project, the Assistant Secretary will determine whether to continue the Center for the fourth and fifth years of the project period and will consider in addition to the requirements of 34 CFR 75.253(a):

(a) The recommendation of a review team consisting of three experts selected by the Assistant Secretary. The services of the review team, including a two-day site visit to the project, are to be performed during the last half of the project's second year and may be included in that year's evaluation required under 34 CFR 75.590. Costs associated with the services to be performed by the review team must also be included in the project's budget for year two. These costs are estimated to be approximately $6,000;

(b) The timeliness and effectiveness with which all requirements of the negotiated cooperative agreement have been or are being met by the Center; and

(c) The degree to which the Center is making a positive contribution to the participation of students with disabilities in State and local assessment and accountability systems.

Competitive Preferences

Within this absolute priority, we will give the following competitive preference under section 606 of IDEA and 34 CFR 75.105(c)(2)(i), to applications that are otherwise eligible for funding under this priority:

Up to ten (10) points based on the effectiveness of the applicant's strategies for employing and advancing in employment qualified individuals with disabilities in project activities as required under paragraph (a) of the General Requirements section of this notice. In determining the effectiveness of those strategies, the Assistant Secretary can consider the applicant's past success in pursuit of this goal.

For purposes of this competitive preference, applicants can be awarded up to a total of 10 points in addition to those awarded under the published selection criteria for this priority. That is, an applicant meeting this competitive preference could earn a maximum total of 110 points.

Maximum Award

We reject any application that proposes a budget exceeding $700,000 for any single budget period of 12 months. We reject and do not consider an application that proposes a budget exceeding this maximum amount. The Assistant Secretary for Special Education and Rehabilitative Services may change the maximum amounts through a notice published in the Federal Register.

Page Limits

The maximum page limit for this priority is 60 double-spaced pages.

Note: Applications must meet the required page limit standards that are described in the General Requirements section of this notice.

For Applications Contact: Education Publications Center (ED Pubs), P.O. Box 1398, Jessup, Maryland 20794-1398. Telephone (toll free): 1-877-4ED-Pubs (1-877-433-7827). FAX: 301-470-1244. Individuals who use a telecommunications device for the deaf (TDD) may call (toll free) 1-877-576-7734.

You may also contact Ed Pubs via its Web site (http://www.ed.gov/pubs/edpubs.html) or its E-mail address (edpubs&@inet.ed.gov).

FOR FURTHER INFORMATION CONTACT: Grants and Contracts Services Team, U.S. Department of Education, 400 Maryland Avenue, S.W., room 3317, Switzer Building, Washington, D.C. 20202-2550. Telephone: (202) 260-9182.

If you use a TDD you may call the Federal Information Relay Service (FIRS) at 1-800-877-8339.

Individuals with disabilities may obtain this document in an alternate format (e.g., Braille, large print, audiotape, or computer diskette) on request to the contact persons listed in the preceding paragraph.

Individuals with disabilities may obtain a copy of the application package in an alternate format by contacting the Department as listed above. However, the Department is not able to reproduce in an alternate format the standard forms included in the application package.

Intergovernmental Review

All programs in this notice (except for Research and Innovation) are subject to the requirements of Executive Order 12372 and the regulations in 34 CFR Part 79. The objective of the Executive order is to foster an intergovernmental partnership and a strengthened federalism by relying on processes developed by State and local governments for coordination and review of proposed Federal financial assistance.

In accordance with the order, we intend this document to provide early notification of the Department's specific plans and actions for those programs.

Available Funds

The Administration has requested funds for these programs for Fiscal Year 2000. The actual level of funding, if any, depends on final congressional action. However, we are inviting applications to allow enough time to complete the grant process before the end of the fiscal year, provided Congress appropriates funds for these programs.

Individuals With Disabilities Education Act Application Notice For Fiscal Year 2000
CFDA No. and name | Applications available | Application deadline date | Deadline for intergovernmental review | Maximum award (per year)* | Project period | Page limit ** | Estimated number of awards
84.324D Directed Research Projects | 01/26/00 | 03/20/00 | 05/19/00 | $180,000 | Up to 36 mos | 50 | 27
84.325N Projects of National Significance | 01/26/00 | 03/10/00 | 05/09/00 | 200,000 | Up to 36 mos | 40 | 12
84.326A Linking Policy and Practice Audiences to the 1997 Amendments of IDEA | 01/26/00 | 03/10/00 | 05/09/00 | 1,500,000 | Up to 36 mos | 60 | 1
84.326F State and Federal Policy Forum for Program Improvement | 01/26/00 | 03/10/00 | 05/09/00 | 400,000 | Up to 60 mos | 60 | 1
84.326G Center on Achieving Results in Education for Students with Disabilities | 01/26/00 | 03/10/00 | 05/09/00 | 700,000 | Up to 60 mos | 60 | 1
* The Assistant Secretary rejects and does not consider an application that proposes a budget exceeding the amount listed for each priority for any single budget period of 12 months. ** Applicants must limit the Application Narrative, Part III of the Application, to the page limits noted above. Please refer to the “Page Limit” requirements included in the General Requirements section of this notice. The Assistant Secretary rejects and does not consider an application that does not adhere to this requirement.
Note: The Department of Education is not bound by any estimates in this notice.

Electronic Access to This Document

You may view this document, as well as all other Department of Education documents published in the Federal Register, in text or Adobe Portable Document Format (PDF) on the Internet at either of the following sites:

http://ocfo.ed.gov/fedreg.htm

http://www.ed.gov/news.html

To use the PDF you must have the Adobe Acrobat Reader Program with Search, which is available free at either of the previous sites. If you have questions about using the PDF, call the U.S. Government Printing Office (GPO), toll free, at 1-888-293-6498; or in the Washington, DC. area at (202) 512-1530.

Note: The official version of this document is the document published in the Federal Register. Free Internet access to the official edition of the Federal Register and the Code of Federal Regulations is available on GPO Access at: http://www.access.gpo.gov/nara/index.html.

Dated: January 12, 2000.
Judith E. Heumann,
Assistant Secretary for Special Education and Rehabilitative Services.

[FR Doc. 00-1121 Filed 1-18-00; 8:45 am]

BILLING CODE 4000-01-U